DEPARTMENT OF HOUSING AND URBAN DEVELOPMENT

[Docket No. FR-4901-N-27]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Burruss, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Heather Ranson, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Julie Jones-Conte, Department of the Army, Office of the Assistant Chief of Staff for Installation Management, Attn: DAIM-MD, Room 1E677, 600 Army Pentagon, Washington, DC 20310-0600; (703) 602-5180; GSA: Mr. Brian K. Polly, Assistant Commissioner, General Services Administration, Office of Property Disposal, 18th and F Streets, NW., Washington, DC 20405; (202) 501-0084; Interior: Ms. Linda Tribby, Acquisition & Property Management, Department of the Interior, 1849 C Street, NW., MS5512, Washington, DC 20240; (202) 219-0728; Navy: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: June 24, 2004.
Mark R. Johnston,
Director, Office of Special Needs Assistance Programs.

Title V, Federal Surplus Property Program Federal Register Report for 7/2/04

Suitable/Available Properties

Buildings (by State)

California

Bldg. YLL-172

Yosemite National Park

Hemlock Bldg.

Yosemite Co: Mariposa CA 95389-

Landholding Agency: Interior

Property Number: 61200420012

Status: Unutilized

Comment: 7020 sq. ft. motel, off-site use only

Bldg. YLL-174

Yosemite National Park

Alder Motel

Yosemite Co: Mariposa CA 95389-

Landholding Agency: Interior

Property Number: 61200420013

Status: Unutilized

Comment: 7020 sq. ft. motel, off-site use only

Bldg. 180

Yosemite National Park

Birch Motel

Yosemite Co: Mariposa CA 95389-

Landholding Agency: Interior

Property Number: 61200420014

Status: Unutilized

Comment: 3010 sq. ft. motel, off-site use only

Colorado

Bldgs. 25, 26, 27

Pueblo Chemical Depot

Pueblo CO 81006-

Landholding Agency: Army

Property Number: 21200420178

Status: Unutilized

Comment: 1311 sq. ft., presence of asbestos/lead paint, most recent use—housing, off-site use only

Bldg. 00127

Pueblo Chemical Depot

Pueblo CO 81006-

Landholding Agency: Army

Property Number: 21200420179

Status: Unutilized

Comment: 8067 sq. ft., presence of asbestos, most recent use—barracks, off-site use only

Georgia

Bldg. 00232

Hunter Army Airfield

Garrison Co: Chatham GA 31409-

Landholding Agency: Army

Property Number: 21200420007

Status: Excess

Comment: 2436 sq. ft., most recent use—headquarters bldg., off-site use only

Bldg. P1450

Hunter Army Airfield

Garrison Co: Chatham GA 31409-

Landholding Agency: Army

Property Number: 21200420027

Status: Excess

Comment: 100,230 sq. ft., most recent use—health clinic, off-site use only

Bldg. 4151

Fort Benning

Ft. Benning Co: Chattachoochee GA 31905-

Landholding Agency: Army

Property Number: 21200420032

Status: Excess

Comment: 3169 sq. ft., most recent use—battle lab, off-site use only

Bldg. 4152

Fort Benning

Ft. Benning Co: Chattachoochee GA 31905-

Landholding Agency: Army

Property Number: 21200420033

Status: Excess

Comment: 721 sq. ft., most recent use—battle lab, off-site use only

Bldg. 4476

Fort Benning

Ft. Benning Co: Chattachoochee GA 31905-

Landholding Agency: Army

Property Number: 21200420034

Status: Excess

Comment: 3148 sq. ft., most recent use—veh. maint. shop, off-site use only

Bldg. 8771

Fort Benning

Ft. Benning Co: Chattachoochee GA 31905-

Landholding Agency: Army

Property Number: 21200420044

Status: Excess

Comment: 972 sq. ft., most recent use—RH/TGT house, off-site use only

Bldg. 9028

Fort Benning

Ft. Benning Co: Chattachoochee GA 31905-

Landholding Agency: Army

Property Number: 21200420049

Status: Excess

Comment: 54 sq. ft., most recent use—sew/wst wtr treatment, off-site use only

Bldg. 9029

Fort Benning

Ft. Benning Co: Chattachoochee GA 31905-

Landholding Agency: Army

Property Number: 21200420050

Status: Excess

Comment: 7356 sq. ft., most recent use—heat plant bldg., off-site use only

Bldg. 11370

Fort Benning

Ft. Benning Co: Chattachoochee GA 31905-

Landholding Agency: Army

Property Number: 21200420051

Status: Excess

Comment: 9602 sq. ft., most recent use—nco/enl bldg., off-site use only

Bldg. 00464

Fort Gordon

Ft. Gordon Co: Richmond GA 30905-

Landholding Agency: Army

Property Number: 21200420180

Status: Unutilized

Comment: 2200 sq. ft., most recent use—recreation, off-site use only

Bldg. T924

Fort Stewart

Ft. Stewart Co: Liberty GA 31314-

Landholding Agency: Army

Property Number: 21200420194

Status: Excess

Comment: 9360 sq. ft., most recent use—warehouse, off-site use only

Maryland

Bldg. 00735

Aberdeen Proving Ground

Harford MD 21005-

Landholding Agency: Army

Property Number: 21200420052

Status: Unutilized

Comment: 1448 sq. ft., most recent use—ordnance bldg., off-site use only

Bldg. 00739

Aberdeen Proving Ground

Harford MD 21005-

Landholding Agency: Army

Property Number: 21200420053

Status: Unutilized

Comment: 3295 sq. ft., most recent use—storage, off-site use only

Bldg. 1145D

Aberdeen Proving Ground

Harford MD 21005-

Landholding Agency: Army

Property Number: 21200420054

Status: Unutilized

Comment: 898 sq. ft., most recent use—storage, off-site use only

Bldg. 3070A

Aberdeen Proving Ground

Harford MD 21005-

Landholding Agency: Army

Property Number: 21200420055

Status: Unutilized

Comment: 9 sq. ft., most recent use—heat plant, off-site use only

Bldg. E5026

Aberdeen Proving Ground

Harford MD 21005-

Landholding Agency: Army

Property Number: 21200420056

Status: Unutilized

Comment: 20,536 sq. ft., most recent use—storage, off-site use only

Bldg. 05261

Aberdeen Proving Ground

Harford MD 21005-

Landholding Agency: Army

Property Number: 21200420057

Status: Unutilized

Comment: 10067 sq. ft., most recent use—maintenance, off-site use only

Bldg. E5809

Aberdeen Proving Ground

Harford MD 21005-

Landholding Agency: Army

Property Number: 21200420058

Status: Unutilized

Comment: 69 sq. ft., most recent use—storage, off-site use only

Texas

Bldg. 04200

Fort Hood

Ft. Hood Co: Bell TX 76544-

Landholding Agency: Army

Property Number: 21200420065

Status: Unutilized

Comment: 2100 sq. ft., presence of asbestos, most recent use—admin., off-site use only

Land (by State)

Ohio

GWEN Site #3

Township Rd. 196

Radnor Co: Delaware OH

Landholding Agency: GSA

Property Number: 54200420021

Status: Surplus

Comment: two tracts of farm land = 0.953 acre and 10.778 acres

GSA Number : 1-D-OH-825

Suitable/Unavailable Properties

Buildings (by State)

Colorado

Bldg. S6220

Fort Carson

Ft. Carson Co: El Paso CO 80913-

Landholding Agency: Army

Property Number: 21200420175

Status: Unutilized

Comment: 12,361 sq. ft., presence of asbestos, most recent use—admin., off-site use only

Bldg. S6285

Fort Carson

Ft. Carson Co: El Paso CO 80913-

Landholding Agency: Army

Property Number: 21200420176

Status: Unutilized

Comment: 19,478 sq. ft., most recent use—admin., off-site use only

Bldg. S6287

Fort Carson

Ft. Carson Co: El Paso CO 80913-

Landholding Agency: Army

Property Number: 21200420177

Status: Unutilized

Comment: 10,076 sq. ft., presence of asbestos, most recent use—admin., off-site use only

District of Columbia

Bldg. 48A Annex

Fort McNair

Washington DC DC 20319-2058

Landholding Agency: Army

Property Number: 21200420001

Status: Excess

Comment: 3251 sq. ft., most recent use—admin., off-site use only

Georgia

Bldg. T201

Hunter Army Airfield

Garrison Co: Chatham GA 31409-

Landholding Agency: Army

Property Number: 21200420002

Status: Excess

Comment: 1828 sq. ft., most recent use—credit union, off-site use only

Bldg. T202

Hunter Army Airfield

Garrison Co: Chatham GA 31409-

Landholding Agency: Army

Property Number: 21200420003

Status: Excess

Comment: 5602 sq. ft., most recent use—headquarters bldg., off-site use only

Bldg. T222

Hunter Army Airfield

Garrison Co: Chatham GA 31409-

Landholding Agency: Army

Property Number: 21200420004

Status: Excess

Comment: 2891 sq. ft., most recent use—headquarters bldg., off-site use only

Bldg. P223

Hunter Army Airfield

Garrison Co: Chatham GA 31409-

Landholding Agency: Army

Property Number: 21200420005

Status: Excess

Comment: 6434 sq. ft., most recent use—headquarters bldg., off-site use only

Bldg. P224

Hunter Army Airfield

Garrison Co: Chatham GA 31409-

Landholding Agency: Army

Property Number: 21200420006

Status: Excess

Comment: 6434 sq. ft., most recent use—enlisted bldg., off-site use only

Bldg. T234

Hunter Army Airfield

Garrison Co: Chatham GA 31409-

Landholding Agency: Army

Property Number: 21200420008

Status: Excess

Comment: 2624 sq. ft., most recent use—admin., off-site use only

Bldg. T235

Hunter Army Airfield

Garrison Co: Chatham GA 31409-

Landholding Agency: Army

Property Number: 21200420009

Status: Excess

Comment: 1842 sq. ft., most recent use—headquarters bldg., off-site use only

Bldg. T702

Hunter Army Airfield

Garrison Co: Chatham GA 31409-

Landholding Agency: Army

Property Number: 21200420010

Status: Excess

Comment: 9190 sq. ft., most recent use—storage, off-site use only

Bldg. T703

Hunter Army Airfield

Garrison Co: Chatham GA 31409-

Landholding Agency: Army

Property Number: 21200420011

Status: Excess

Comment: 9190 sq. ft., most recent use—storage, off-site use only

Bldg. T704

Hunter Army Airfield

Garrison Co: Chatham GA 31409-

Landholding Agency: Army

Property Number: 21200420012

Status: Excess

Comment: 9190 sq. ft., most recent use—storage, off-site use only

Bldg. P813

Hunter Army Airfield

Garrison Co: Chatham GA 31409-

Landholding Agency: Army

Property Number: 21200420013

Status: Excess

Comment: 43,055 sq. ft., most recent use—maint. hanger/Co Hq., off-site use only

Bldgs. S843, S844, S845

Hunter Army Airfield

Garrison Co: Chatham GA 31409-

Landholding Agency: Army

Property Number: 21200420014

Status: Excess

Comment: 9383 sq. ft., most recent use—maint hanger, off-site use only

Bldg. P925

Hunter Army Airfield

Garrison Co: Chatham GA 31409-

Landholding Agency: Army

Property Number: 21200420015

Status: Excess

Comment: 27,681 sq. ft., most recent use—fitness center, off-site use only

Bldg. S1227

Hunter Army Airfield

Garrison Co: Chatham GA 31409-

Landholding Agency: Army

Property Number: 21200420016

Status: Excess

Comment: 2750 sq. ft., most recent use—admin., off-site use only

Bldg. S1248

Hunter Army Airfield

Garrison Co: Chatham GA 31409-

Landholding Agency: Army

Property Number: 21200420017

Status: Excess

Comment: 1450 sq. ft., most recent use—police station, off-site use only

Bldg. S1251

Hunter Army Airfield

Garrison Co: Chatham GA 31409-

Landholding Agency: Army

Property Number: 21200420018

Status: Excess

Comment: 3300 sq. ft., most recent use—police station, off-site use only

Bldg. T1254

Hunter Army Airfield

Garrison Co: Chatham GA 31409-

Landholding Agency: Army

Property Number: 21200420019

Status: Excess

Comment: 4720 sq. ft., most recent use—transient UPH, off-site use only

Bldg. S1259

Hunter Army Airfield

Garrison Co: Chatham GA 31409-

Landholding Agency: Army

Property Number: 21200420020

Status: Excess

Comment: 1750 sq. ft., most recent use—admin., off-site use only

Bldg. S1260

Hunter Army Airfield

Garrison Co: Chatham GA 31409-

Landholding Agency: Army

Property Number: 21200420021

Status: Excess

Comment: 1750 sq.ft., most recent use—exchange service outlet, off-site use only

Bldg. P1275

Hunter Army Airfield

Garrison Co: Chatham GA 31409-

Landholding Agency: Army

Property Number: 21200420022

Status: Excess

Comment: 138,032 sq. ft., most recent use—dining facility, off-site use only

Bldg. P1276

Hunter Army Airfield

Garrison Co: Chatham GA 31409-

Landholding Agency: Army

Property Number: 21200420023

Status: Excess

Comment: 138,032 sq. ft., most recent use—headquarters bldg., off-site use only

Bldg. P1277

Hunter Army Airfield

Garrison Co: Chatham GA 31409-

Landholding Agency: Army

Property Number: 21200420024

Status: Excess

Comment: 13,981 sq. ft., most recent use—barracks/dining, off-site use only

Bldg. T1412

Hunter Army Airfield

Garrison Co: Chatham GA 31409-

Landholding Agency: Army

Property Number: 21200420025

Status: Excess

Comment: 9186 sq. ft., most recent use—warehouse, off-site use only

Bldg. T1413

Hunter Army Airfield

Garrison Co: Chatham GA 31409-

Landholding Agency: Army

Property Number: 21200420026

Status: Excess

Comment: 21,483 sq. ft., most recent use—fitness center/warehouse, off-site use only

Bldg. P8058

Hunter Army Airfield

Garrison Co: Chatham GA 31409-

Landholding Agency: Army

Property Number: 21200420028

Status: Excess

Comment: 1808 sq. ft., most recent use—control tower, off-site use only

Bldg. 8658

Hunter Army Airfield

Garrison Co: Chatham GA 31409-

Landholding Agency: Army

Property Number: 21200420029

Status: Excess

Comment: 8470 sq. ft., most recent use—storage, off-site use only

Bldg. 8659

Hunter Army Airfield

Garrison Co: Chatham GA 31409-

Landholding Agency: Army

Property Number: 21200420030

Status: Excess

Comment: 8470 sq. ft., most recent use—storage, off-site use only

Bldgs. 8675, 8676

Hunter Army Airfield

Garrison Co: Chatham GA 31409-

Landholding Agency: Army

Property Number: 21200420031

Status: Excess

Comment: 4000 sq. ft., most recent use—ship/recv facility, off-site use only

Bldg. 5962-5966

Fort Benning

Ft. Benning Co: Chattachoochee GA 31905-

Landholding Agency: Army

Property Number: 21200420035

Status: Excess

Comment: 2421 sq. ft., most recent use—igloo storage, off-site use only

Bldgs. 5967-5971

Fort Benning

Ft. Benning Co: Chattachoochee GA 31905-

Landholding Agency: Army

Property Number: 21200420036

Status: Excess

Comment: 1813 sq. ft., most recent use—igloo storage, off-site use only

Bldgs. 5974-5977

Fort Benning

Ft. Benning Co: Chattachoochee GA 31905-

Landholding Agency: Army

Property Number: 21200420037

Status: Excess

Comment: 400 sq. ft., most recent use—igloo storage, off-site use only

Bldg. 5978

Fort Benning

Ft. Benning Co: Chattachoochee GA 31905-

Landholding Agency: Army

Property Number: 21200420038

Status: Excess

Comment: 1344 sq. ft., most recent use—igloo storage, off-site use only

Bldg. 5981

Fort Benning

Ft. Benning Co: Chattachoochee GA 31905-

Landholding Agency: Army

Property Number: 21200420039

Status: Excess

Comment: 2028 sq. ft., most recent use—ammo storage, off-site use only

Bldgs. 5984-5988

Fort Benning

Ft. Benning Co: Chatachoochee GA 31905-

Landholding Agency: Army

Property Number: 21200420040

Status: Excess

Comment: 1816 sq. ft., most recent use—igloo storage, off-site use only

Bldg. 5993

Fort Benning

Ft. Benning Co: Chattachoochee GA 31905-

Landholding Agency: Army

Property Number: 21200420041

Status: Excess

Comment: 960 sq. ft., most recent use—storage, off-site use only

Bldg. 5994

Fort Benning

Ft. Benning Co: Chattachoochee GA 31905-

Landholding Agency: Army

Property Number: 21200420042

Status: Excess

Comment: 2016 sq. ft., most recent use—ammo storage, off-site use only

Bldg. 5995

Fort Benning

Ft. Benning Co: Chattachoochee GA 31905-

Landholding Agency: Army

Property Number: 21200420043

Status: Excess

Comment: 114 sq. ft., most recent use—storage, off-site use only

Bldg. 9000

Fort Benning

Ft. Benning Co: Chattachoochee GA 31905-

Landholding Agency: Army

Property Number: 21200420045

Status: Excess

Comment: 9313 sq. ft., most recent use—headquarters bldg., off-site use only

Bldgs. 9002, 9005

Fort Benning

Ft. Benning Co: Chattachoochee GA 31905-

Landholding Agency: Army

Property Number: 21200420046

Status: Excess

Comment: 3555 sq. ft., most recent use—classroom, off-site use only

Bldg. 9025

Fort Benning

Ft. Benning Co: Chattachoochee GA 31905-

Landholding Agency: Army

Property Number: 21200420047

Status: Excess

Comment: 3707 sq. ft., most recent use—headquarters bldg., off-site use only

Bldg. 9026

Fort Benning

Ft. Benning Co: Chattachoochee GA 31905-

Landholding Agency: Army

Property Number: 21200420048

Status: Excess

Comment: 3867 sq. ft., most recent use—headquarters bldg., off-site use only

Bldg. T01

Fort Stewart

Ft. Stewart Co: Liberty GA 31314-

Landholding Agency: Army

Property Number: 21200420181

Status: Excess

Comment: 11,682 sq. ft., most recent use—admin., off-site use only

Bldg. T04

Fort Stewart

Ft. Stewart Co: Liberty GA 31314-

Landholding Agency: Army

Property Number: 21200420182

Status: Excess

Comment: 8292 sq. ft., most recent use—admin., off-site use only

Bldg. T05

Fort Stewart

Ft. Stewart Co: Liberty GA 31314-

Landholding Agency: Army

Property Number: 21200420183

Status: Excess

Comment: 7992 sq. ft., most recent use—admin., off-site use only

Bldg. T06

Fort Stewart

Ft. Stewart Co: Liberty GA 31314-

Landholding Agency: Army

Property Number: 21200420184

Status: Excess

Comment: 3305 sq. ft., most recent use—communication center, off-site use only

Bldg. T08

Fort Stewart

Ft. Stewart Co: Liberty GA 31314-

Landholding Agency: Army

Property Number: 21200420185

Status: Excess

Comment: 7670 sq. ft., most recent use—admin., off-site use only

Bldg. 00037

Fort Stewart

Ft. Stewart Co: Liberty GA 31314-

Landholding Agency: Army

Property Number: 21200420186

Status: Excess

Comment: 2833 sq. ft., most recent use—admin., off-site use only

Bldg. T55

Fort Stewart

Ft. Stewart Co: Liberty GA 31314-

Landholding Agency: Army

Property Number: 21200420187

Status: Excess

Comment: 6490 sq. ft., most recent use—admin., off-site use only

Bldg. T85

Fort Stewart

Ft. Stewart Co: Liberty GA 31314-

Landholding Agency: Army

Property Number: 21200420188

Status: Excess

Comment: 3283 sq. ft., most recent use—post chapel, off-site use only

Bldg. T131

Fort Stewart

Ft. Stewart Co: Liberty GA 31314-

Landholding Agency: Army

Property Number: 21200420189

Status: Excess

Comment: 4720 sq. ft., most recent use—admin., off-site use only

Bldg. T132

Fort Stewart

Ft. Stewart Co: Liberty GA 31314-

Landholding Agency: Army

Property Number: 21200420190

Status: Excess

Comment: 4720 sq. ft., most recent use—admin., off-site use only

Bldg. T157

Fort Stewart

Ft. Stewart Co: Liberty GA 31314-

Landholding Agency: Army

Property Number: 21200420191

Status: Excess

Comment: 1440 sq. ft., most recent use—education center, off-site use only

Bldg. 00916

Fort Stewart

Ft. Stewart Co: Liberty GA 31314-

Landholding Agency: Army

Property Number: 21200420192

Status: Excess

Comment: 642 sq. ft., most recent use—warehouse, off-site use only

Bldg. 00923

Fort Stewart

Ft. Stewart Co: Liberty GA 31314-

Landholding Agency: Army

Property Number: 21200420193

Status: Excess

Comment: 2436 sq. ft., most recent use—admin., off-site use only

Bldg. P925

Fort Stewart

Ft. Stewart Co: Liberty GA 31314-

Landholding Agency: Army

Property Number: 21200420195

Status: Excess

Comment: 3115 sq. ft., most recent use—motor repair shop, off-site use only

Bldg. 00926

Fort Stewart

Ft. Stewart Co: Liberty GA 31314-

Landholding Agency: Army

Property Number: 21200420196

Status: Excess

Comment: 357 sq. ft., most recent use—warehouse, off-site use only

Bldg. 01002

Fort Stewart

Ft. Stewart Co: Liberty GA 31314-

Landholding Agency: Army

Property Number: 21200420197

Status: Excess

Comment: 9267 sq. ft., most recent use—maintenance shop, off-site use only

Bldg. 01003

Fort Stewart

Ft. Stewart Co: Liberty GA 31314-

Landholding Agency: Army

Property Number: 21200420198

Status: Excess

Comment: 9267 sq. ft., most recent use—admin, off-site use only

Bldg. T1004

Fort Stewart

Ft. Stewart Co: Liberty GA 31314-

Landholding Agency: Army

Property Number: 21200420199

Status: Excess

Comment: 9272 sq. ft., most recent use—warehouse, off-site use only

Bldg. T1023

Fort Stewart

Ft. Stewart Co: Liberty GA 31314-

Landholding Agency: Army

Property Number: 21200420200

Status: Excess

Comment: 9267 sq. ft., most recent use—warehouse, off-site use only

Bldg. T1041

Fort Stewart

Ft. Stewart Co: Liberty GA 31314-

Landholding Agency: Army

Property Number: 21200420201

Status: Excess

Comment: 1626 sq. ft., most recent use—storage, off-site use only

Bldg. T1043

Fort Stewart

Ft. Stewart Co: Liberty GA 31314-

Landholding Agency: Army

Property Number: 21200420202

Status: Excess

Comment: 3825 sq. ft., most recent use—admin., off-site use only

Bldg. T1045

Fort Stewart

Ft. Stewart Co: Liberty GA 31314-

Landholding Agency: Army

Property Number: 21200420203

Status: Excess

Comment: 600 sq. ft., most recent use—shop, off-site use only

Bldg. T106

Fort Stewart

Ft. Stewart Co: Liberty GA 31314-

Landholding Agency: Army

Property Number: 21200420204

Status: Excess

Comment: 650 sq. ft., most recent use—heat plant bldg., off-site use only

Bldg. T1047

Fort Stewart

Ft. Stewart Co: Liberty GA 31314-

Landholding Agency: Army

Property Number: 21200420205

Status: Excess

Comment: 3000 sq. ft., most recent use—wash. platform/org., off-site use only

Bldg. T1049

Fort Stewart

Ft. Stewart Co: Liberty GA 31314-

Landholding Agency: Army

Property Number: 21200420206

Status: Excess

Comment: 768 sq. ft., most recent use—engine test facility, off-site use only

Bldg. T1050

Fort Stewart

Ft. Stewart Co: Liberty GA 31314-

Landholding Agency: Army

Property Number: 21200420207

Status: Excess

Comment: 3114 sq. ft., most recent use—shop, off-site use only

Bldg. T1051

Fort Stewart

Ft. Stewart Co: Liberty GA 31314-

Landholding Agency: Army

Property Number: 21200420208

Status: Excess

Comment: 12,205 sq. ft., most recent use—shop, off-site use only

Bldg. T1056

Fort Stewart

Ft. Stewart Co: Liberty GA 31314-

Landholding Agency: Army

Property Number: 21200420209

Status: Excess

Comment: 18,260 sq. ft., most recent use—shop, off-site use only

Bldg. T1057

Fort Stewart

Ft. Stewart Co: Liberty GA 31314-

Landholding Agency: Army

Property Number: 21200420210

Status: Excess

Comment: 18,260 sq. ft., most recent use—warehouse, off-site use only

Bldg. T1058

Fort Stewart

Ft. Stewart Co: Liberty GA 31314-

Landholding Agency: Army

Property Number: 21200420211

Status: Excess

Comment: 18,260 sq. ft., most recent use—storage, off-site use only

Bldg. T1062

Fort Stewart

Ft. Stewart Co: Liberty GA 31314-

Landholding Agency: Army

Property Number: 21200420212

Status: Excess

Comment: 5520 sq. ft., most recent use—general purpose, off-site use only

Bldg. T1069

Fort Stewart

Ft. Stewart Co: Liberty GA 31314-

Landholding Agency: Army

Property Number: 21200420213

Status: Excess

Comment: 14,096 sq. ft., most recent use—shop, off-site use only

Bldg. T1083

Fort Stewart

Ft. Stewart Co: Liberty GA 31314-

Landholding Agency: Army

Property Number: 21200420214

Status: Excess

Comment: 2816 sq .ft., most recent use—storage, off-site use only

Bldg. 19101

Fort Stewart

Ft. Stewart Co: Liberty GA 31314-

Landholding Agency: Army

Property Number: 21200420215

Status: Excess

Comment: 6773 sq. ft., most recent use—simulator bldg., off-site use only

Bldg. 19102

Fort Stewart

Ft. Stewart Co: Liberty GA 31314-

Landholding Agency: Army

Property Number: 21200420216

Status: Excess

Comment: 3250 sq. ft., most recent use—simulator bldg., off-site use only

Bldg. T19111

Fort Stewart

Ft. Stewart Co: Liberty GA 31314-

Landholding Agency: Army

Property Number: 21200420217

Status: Excess

Comment: 1440 sq. ft., most recent use—admin., off-site use only

Bldg. 19112

Fort Stewart

Ft. Stewart Co: Liberty GA 31314-

Landholding Agency: Army

Property Number: 21200420218

Status: Excess

Comment: 1344 sq. ft., most recent use—storage, off-site use only

Bldg. 19113

Fort Stewart

Ft. Stewart Co: Liberty GA 31314-

Landholding Agency: Army

Property Number: 21200420219

Status: Excess

Comment: 1440 sq. ft., most recent use—admin., off-site use only

Bldg. T19201

Fort Stewart

Ft. Stewart Co: Liberty GA 31314-

Landholding Agency: Army

Property Number: 21200420220

Status: Excess

Comment: 960 sq. ft., most recent use—physical fitness center, off-site use only

Bldg. 19202

Fort Stewart

Ft. Stewart Co: Liberty GA 31314-

Landholding Agency: Army

Property Number: 21200420221

Status: Excess

Comment: 1210 sq. ft., most recent use—community center, off-site use only

Bldg. 19204 thru 19207

Fort Stewart

Ft. Stewart Co: Liberty GA 31314-

Landholding Agency: Army

Property Number: 21200420222

Status: Excess

Comment: 960 sq. ft., most recent use—admin., off-site use only

Bldgs. 19208 thru 19211

Fort Stewart

Ft. Stewart Co: Liberty GA 31314-

Landholding Agency: Army

Property Number: 21200420223

Status: Excess

Comment: 1540 sq. ft., most recent use—general installation bldg., off-site use only

Bldg. 19212

Fort Stewart

Ft. Stewart Co: Liberty GA 31314-

Landholding Agency: Army

Property Number: 21200420224

Status: Excess

Comment: 1248 sq. ft., off-site use only

Bldg. 19213

Fort Stewart

Ft. Stewart Co: Liberty GA 31314-

Landholding Agency: Army

Property Number: 21200420225

Status: Excess

Comment: 1540 sq. ft., most recent use—general installation bldg., off-site use only

Bldg. 19214

Fort Stewart

Ft. Stewart Co: Liberty GA 31314-

Landholding Agency: Army

Property Number: 21200420226

Status: Excess

Comment: 1796 sq. ft., most recent use—transient UPH, off-site use only

Bldg. 19215

Fort Stewart

Ft. Stewart Co: Liberty GA 31314-

Landholding Agency: Army

Property Number: 21200420227

Status: Excess

Comment: 1948 sq. ft., most recent use—transient UPH, off-site use only

Bldg. 19216

Fort Stewart

Ft. Stewart Co: Liberty GA 31314-

Landholding Agency: Army

Property Number: 21200420228

Status: Excess

Comment: 1540 sq. ft., most recent use—transient UPH, off-site use only

Bldg. 19217

Fort Stewart

Ft. Stewart Co: Liberty GA 31314-

Landholding Agency: Army

Property Number: 21200420229

Status: Excess

Comment: 120 sq. ft., most recent use—nav aids bldg., off-site use only

Bldg. 19218

Fort Stewart

Ft. Stewart Co: Liberty GA 31314-

Landholding Agency: Army

Property Number: 21200420230

Status: Excess

Comment: 2925 sq. ft., most recent use—general installation bldg., off-site use only

Bldgs. 19219, 19220

Fort Stewart

Ft. Stewart Co: Liberty GA 31314-

Landholding Agency: Army

Property Number: 21200420231

Status: Excess

Comment: 1200 sq. ft., most recent use—general installation bldg., off-site use only

Bldg. 19223

Fort Stewart

Ft. Stewart Co: Liberty GA 31314-

Landholding Agency: Army

Property Number: 21200420232

Status: Excess

Comment: 6433 sq. ft., most recent use—transient UPH, off-site use only

Bldg. 19225

Fort Stewart

Ft. Stewart Co: Liberty GA 31314-

Landholding Agency: Army

Property Number: 21200420233

Status: Excess

Comment: 4936 sq. ft., most recent use—dining facility, off-site use only

Bldg. 19226

Fort Stewart

Ft. Stewart Co: Liberty GA 31314-

Landholding Agency: Army

Property Number: 21200420234

Status: Excess

Comment: 136 sq. ft., most recent use—general purpose installation bldg., off-site use only

Bldg. T19228

Fort Stewart

Ft. Stewart Co: Liberty GA 31314-

Landholding Agency: Army

Property Number: 21200420235

Status: Excess

Comment: 400 sq. ft., most recent use—admin., off-site use only

Bldg. 19229

Fort Stewart

Ft. Stewart Co: Liberty GA 31314-

Landholding Agency: Army

Property Number: 21200420236

Status: Excess

Comment: 640 sq. ft., most recent use—vehicle shed, off-site use only

Bldg. 19232

Fort Stewart

Ft. Stewart Co: Liberty GA 31314-

Landholding Agency: Army

Property Number: 21200420237

Status: Excess

Comment: 96 sq. ft., most recent use—general purpose installation, off-site use only

Bldg. 19233

Fort Stewart

Ft. Stewart Co: Liberty GA 31314-

Landholding Agency: Army

Property Number: 21200420238

Status: Excess

Comment: 48 sq. ft., most recent use—fire support, off-site use only

Bldg. 19236

Fort Stewart

Ft. Stewart Co: Liberty GA 31314-

Landholding Agency: Army

Property Number: 21200420239

Status: Excess

Comment: 1617 sq. ft., most recent use—transient UPH, off-site use only

Bldg. 19238

Fort Stewart

Ft. Stewart Co: Liberty GA 31314-

Landholding Agency: Army

Property Number: 21200420240

Status: Excess

Comment: 738 sq. ft., off-site use only

Missouri

Bldg. 5760

Fort Leonard Wood

Ft. Leonard Wood Co: Pulaski MO 65743-8944

Landholding Agency: Army

Property Number: 21200420059

Status: Unutilized

Comment: 2000 sq. ft., most recent use—classroom, off-site use only

Bldg. 5762

Fort Leonard Wood

Ft. Leonard Wood Co: Pulaski MO 65743-8944

Landholding Agency: Army

Property Number: 21200420060

Status: Unutilized

Comment: 104 sq. ft., off-site use only

Bldg. 5763

Fort Leonard Wood

Ft. Leonard Wood Co: Pulaski MO 65743-8944

Landholding Agency: Army

Property Number: 21200420061

Status: Unutilized

Comment: 120 sq. ft., most recent use—obs. tower, off-site use only

Bldg. 5765

Fort Leonard Wood

Ft. Leonard Wood Co: Pulaski MO 65743-8944

Landholding Agency: Army

Property Number: 21200420062

Status: Unutilized

Comment: 800 sq. ft., most recent use—support bldg., off-site use only

Wisconsin

Bldg. 01553

Fort McCoy

Ft. McCoy Co: Monroe WI 54656-

Landholding Agency: Army

Property Number: 21200420063

Status: Unutilized

Comment: 1998 sq. ft., most recent use—service station, off-site use only

Bldg. 01563

Fort McCoy

Ft. McCoy Co: Monroe WI 54656-

Landholding Agency: Army

Property Number: 21200420064

Status: Unutilized

Comment: 120 sq. ft., most recent use—transmitter bldg., off-site use only

Unsuitable Properties

Buildings (by State)

California

Bldg. 3410

Yosemite National Park

Vogelsang

Yosemite Co: Mariposa CA 95389-

Landholding Agency: Interior

Property Number: 61200420008

Status: Unutilized

Reason: Extensive deterioration

Bldgs. 06240 thru 06245

Yosemite National Park

Tamarack Flat

Yosemite Co: Mariposa CA 95389-

Landholding Agency: Interior

Property Number: 61200420009

Status: Unutilized

Reason: Extensive deterioration

Bldg. 4702

Yosemite National Park

Mariposa Grove

Yosemite Co: Mariposa CA 95389-

Landholding Agency: Interior

Property Number: 61200420010

Status: Unutilized

Reason: Extensive deterioration

Bldg./Lodge

Yosemite National Park

Yosemite Co: Mariposa CA 95389-

Landholding Agency: Interior

Property Number: 61200420011

Status: Unutilized

Reason: Extensive deterioration

Bldg. 89

Naval Base

San Diego Co: CA -

Landholding Agency: Navy

Property Number: 77200420059

Status: Excess

Reason: Extensive deterioration

Bldg. 128

Naval Base

San Diego Co: CA -

Landholding Agency: Navy

Property Number: 77200420060

Status: Excess

Reason: Extensive deterioration

Bldg. 249

Naval Base

San Diego Co: CA -

Landholding Agency: Navy

Property Number: 77200420061

Status: Excess

Reason: Extensive deterioration

Bldg. 250

Naval Base

San Diego Co: CA -

Landholding Agency: Navy

Property Number: 77200420062

Status: Excess

Reason: Extensive deterioration

Bldg. 357

Naval Base

San Diego Co: CA -

Landholding Agency: Navy

Property Number: 77200420063

Status: Excess

Reason: Extensive deterioration

Bldg. 467

Naval Base

San Diego Co: CA -

Landholding Agency: Navy

Property Number: 77200420064

Status: Excess

Reason: Extensive deterioration

Bldg. 469

Naval Base

San Diego Co: CA -

Landholding Agency: Navy

Property Number: 77200420065

Status: Excess

Reason: Extensive deterioration

Georgia

17 Bldgs.

Naval Air Station

Marietta Co: Cobb GA 30060-

Location: 50-52, 61-61, 55-59, 66-69, 86-87, 206

Landholding Agency: Navy

Property Number: 77200420066

Status: Excess

Reasons: Within 2,000 ft. of flammable or explosive material

Secured Area

Land (by State)

Alabama

Stockpile Storage Site

Hamilton Blvd.

Republished

Theodore AL 36582-

Landholding Agency: GSA

Property Number: 54200420003

Status: Excess

Within 2,000 ft. of flammable or explosive material

GSA Number: 4-G-AL-0772

[FR Doc. 04-14723 Filed 7-1-04; 8:45 am]

BILLING CODE 4210-29-P